DEPARTMENT OF DEFENSE

Department of the Navy

Notice of Availability for the Draft Environmental Assessment for the Proposed Transfer of Naval Ammunition Support Detachment Property, Vieques, Puerto Rico

AGENCY: Department of the Navy, DOD.

ACTION: Notice.

SUMMARY: Pursuant to section 102(2)(C) of the National Environmental Policy Act (NEPA) of 1969 and the Council on Environmental Quality Regulations (40 CFR, Parts 1500-1508) implementing the procedural provisions of NEPA, the United States Department of the Navy (Navy) gives notice that a draft Environmental Assessment (EA) has been prepared to evaluate the environmental impacts associated with the transfer and subsequent redevelopment of the Naval Ammunition Support Detachment (NASD) property on Vieques Island, Puerto Rico. The United States Department of Interior (USDOI) is a cooperating agency in the preparation of this draft EA.

FOR FURTHER INFORMATION CONTACT: Mrs. Ruth Diaz, Community Relations Office, U.S. Naval Forces South, at (787) 865-5691 or write to Commander, U.S. Naval Forces South, Federico Degetau Federal Building, Room 354, 150 Carlos Chardon Avenue, Hato Rey, Puerto Rico 00918.

SUPPLEMENTARY INFORMATION: On January 31, 2000, the President of the United States directed the Navy to submit legislation to Congress to transfer the western end of Vieques to the Commonwealth of Puerto Rico for the benefit of the Municipality of Vieques. This directive was the culmination of a negotiated agreement between the President and the Governor of Puerto Rico concerning the Navy's continued use of the eastern end of Vieques as a training range. Draft legislation was submitted to Congress on February 25, 2000, but as of August 20, 2000, this legislation has not been enacted. The Navy cannot transfer the NASD property to the Commonwealth of Puerto Rico without legislative authority. Although the draft legislation has not been enacted, this draft EA was prepared in anticipation of congressional direction to transfer the NASD property. The analyses contained in this draft EA are based on the legislation as submitted to Congress in February 2000. The legislation, if enacted by Congress, would require the Navy to transfer the land comprising the NASD to the Commonwealth of Puerto Rico by December 31, 2000. This conveyance would not include approximately 100 acres of land on NASD that comprise the Relocatable Over-the-Horizon Radar site, the Monte Pirata telecommunication site, and adjacent areas needed for access and operation of these facilities.

The proposed action is the transfer of approximately 7,900 acres comprising the NASD property to the Commonwealth of Puerto Rico. Of the approximately 7,900 acres, approximately 3,900 acres has been designated in a draft Co-Management Agreement (CMA) developed between the Commonwealth and the USDOI as conservation areas. These conservation areas include the Conservation Zones designated pursuant to the 1983 Memorandum of Understanding between the Commonwealth and the Navy. These conservation areas will be managed pursuant to a Conservation and Management Plan pursuant to the CMA to protect and preserve their natural and cultural resources in perpetuity for the benefit of the general public.

The draft EA also evaluates the potential indirect environmental impacts of the land conveyance associated with the reuse and development of the non-conservation lands as proposed in a conceptual land use plan developed by the Commonwealth. Following a phased approach, the non-conservation land would be made available for low density residential development, tourism-related commercial and residential development, and mixed use development pursuant to a land use plan prepared by the Puerto Rico Planning Board. Passive recreational uses, such as hiking and biking, would be allowed within the conservation zones, however, no new construction or development would be permitted. Green Beach would be open for public use.

The Navy is currently consulting with the Puerto Rico State Historic Preservation Office (SHPO) regarding compliance of this action with Section 106 of the National Historic Preservation Act. Prior to the transfer, the Navy, USDOI, the Advisory Council on Historic Preservation, and the SHPO will sign a Programmatic Agreement (PA) that assures: (1) Historic properties located within the Conservation Zones as defined in the CMA will be afforded protection pursuant to protection measures within the CMA, (2) all archaeological sites eligible for the National Register of Historic Places, as well as unevaluated sites, that are located on land within the jurisdiction of the Commonwealth will be protected under procedures contained in the PA, and (3) the USDOI will be responsible for consultation with the SHPO for future undertakings in the Conservation Zones defined by the CMA, including development of and modifications to the management plan for those Zones.

There are currently ongoing Comprehensive Environmental Response, Compensation, and Liability Act (CERCLA) studies, investigations, and as necessary, site cleanups that will not be completed prior to the projected completion of the final EA. This draft EA is based on the most currently available data and information, and reasonable assumptions regarding land use and other restrictions, which may be implemented to protect human health and the environment prior to or after completion of site cleanups. The ongoing investigations and remediation of contaminated areas are not subject to consideration within this draft EA since under the CERCLA process, all studies and proposed remedial actions will be fully discussed with the regulators and the public.

The analysis conducted in the draft EA focused on the following resources: land use and aesthetics, soils, water quality, air quality, noise, terrestrial and marine environments, threatened and endangered species, socioeconomics, cultural resources, environmental contamination, and coastal zone management. The Navy's analysis of potential effects of the proposed action is founded on the assumption that Congress would enact the Transfer Legislation substantially as described in the draft EA. Based on the assumptions and the analyses in the draft EA, implementation of the proposed action appears to have no significant impacts on the environment. However, the Navy will incorporate public comments into the final EA before making a decision on the environmental significance of the proposed action. If warranted, a Finding of No Significant Impact (FONSI) will be prepared, and the final EA and FONSI will be made available for public review on or about December 1, 2000.

Written comments on the draft EA are requested not later than September 27, 2000. Comments should be as specific as possible. Comments should be mailed to: Commander, U.S. Naval Forces South, Federico Degetau Federal Building, Room 354, 150 Carlos Chardon Avenue, Hato Rey, Puerto Rico 00918. For additional information, write to the above address or call Mrs. Ruth Diaz, Community Relations Office, U.S. Naval Forces South, at (787) 865-5691.

A limited number of copies of the draft EA, in either English or Spanish, can be obtained by contacting the above address. In addition, copies of the draft EA are available for public review at the following repositories:

Biblioteca Publica Jose Gauthier Benitez, Municipio de Vieques, Calle Carlos Leburn, No. 449, Vieques, Puerto Rico 00765.

Museo Fuerte de Mirasol, Barrio Fuerte, Magnolia No. 471, Vieques, Puerto Rico 00765.

Carnegie Public Library, 7 Ponce de Leon Avenue, San Juan, Puerto Rico 00901-2010.

Bibioteca Publica Municipal Alejandrina Quinonez Rivera, Urbanizcion Rossy Valley No. 816, Calle Francisco Guthier, Cieba, Puerto Rico 00735.

Dated: August 22, 2000.
J.L. Roth,
Lieutenant Commander, Judge Advocate General's Corps, U.S. Navy, Federal Register Liaison Officer.

[FR Doc. 00-21874 Filed 8-25-00; 8:45 am]

BILLING CODE 3810-FF-P